DEPARTMENT OF DEFENSE

Department of the Air Force

[Docket ID: USAF-2010-0007]

Privacy Act of 1974; System of Records

AGENCY: Department of the Air Force, DoD.

ACTION: Notice to alter a system of records.

SUMMARY: The Department of the Air Force is proposing to alter a system of records notice in its existing inventory of records systems subject to the Privacy Act of 1974, (5 U.S.C. 552a), as amended.

DATES: The proposed action will be effective on April 19, 2010 unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ben Swilley, (703) 696-6172.

SUPPLEMENTARY INFORMATION: The Department of the Air Force systems of records notices subject to the Privacy Act of 1974, (5 U.S.C. 552a), as amended, have been published in the Federal Register and are available from the Air Force Privacy Act Officer, Office of Warfighting Integration and Chief Information Officer, SAF/XCPPF, 1800 Air Force Pentagon, Washington, DC 20330-1800.

The proposed systems reports, as required by 5 U.S.C. 552a(r) of the Privacy Act, were submitted on March 4, 2010 to the House Committee on Oversight and Government Reform, the Senate Committee on Homeland Security and Governmental Affairs, and the Office of Management and Budget pursuant to paragraph 4c of Appendix I to Office of Management and Budget Circular No. A-130, “Federal Agency Responsibilities for Maintaining Records About Individuals,” dated February 8, 1996, (February 20, 1996; 61 FR 6427).

Dated: March 15, 2010.
Mitchell S. Bryman,
Alternate OSD Federal Register Liaison Officer, Department of Defense.

F031 AF SF B

System Name:

Security Forces Management Information System (SFMIS) (October 14, 2003; 68 FR 59168).

Changes:

* * * * *

Categories of individuals covered by the system:

Delete entry and replace with “Individuals involved in incidents and accidents occurring on Air Force (AF) installations, or reportable incidents occurring off base. Including all Active Duty Military personnel, Reserve and Guard; Department of Defense (DoD) civilians and contractors. Retirees, who may be victims, witnesses, complainants, offenders, suspects, drivers; individuals who have had tickets issued on base, or had their license suspended or revoked; individuals barred from the installation; and persons possessing a licensed firearm are part of the system.

Additionally, the system includes visitors to the installation, individuals requiring access to controlled and/or restricted areas, civilians applying for Federal employment, and individuals who have weapons training and qualifications, or store firearms in an approved government facility.”

Categories of records in the system:

Delete entry and replace with “Name; Social Security Number (SSN); date of birth; place of birth; home address and phone number; alias; race; ethnicity; sex; marital status; identifying marks, such as tattoos and scars; height, weight, eye, and hair color.

The date, location, nature and details of the incident or offense that include if alcohol, drugs and/or weapons were involved; driver's license information; tickets issued; vehicle information; suspension, revocation or debarment records. Information in the system includes if there is a bias against any particular group involved; if offense involved sexual harassment; actions taken by military commanders that include administrative and/or non-judicial measures, including sanctions imposed. Referral actions, court-martial results and punishments imposed. Confinement information, that consists of location of correctional facility, gang/cult affiliation if applicable; and release, parole, clemency eligibility dates.

Additionally, this system includes information on individuals Permanent Change of Station (PCS), rank, duty status and date, assignment state and country, base, current unit of assignment, office symbol and duty phone. Information is also collected on the Primary Air Force Specialty Code (PAFSC), Duty Air Force Specialty Code (DAFSC), Control Air Force Specialty Code (CAFSC), Army Post Office (APO) Address, date eligible to return from overseas (DEROS) data, gaining base and organization, date entered country, history, personally owned weapons, the individual's weapons training status and information, fingerprint images and demographic data, and accident reporting.”

Authority for maintenance of the system:

Delete entry and replace with “10 U.S.C. 8013, Secretary of the Air Force; 18 U.S.C. 922 note, Unlawful Acts note referring to the Brady Handgun Violence Prevention Act; 28 U.S.C. 534 note, Judiciary and Judicial Procedures, note referring to the Uniform Federal Crime Reporting Act; 42 U.S.C. 10601 et seq., Crime Victims Fund; and Amendment to Lautenberg, 18 U.S.C. 922(d)(9) Unlawful Acts; DoD Directive 7730.47, Defense Incident-Based Reporting System (DIBRS); Air Force Instruction 31-203, Security Forces Management Information System; and E.O. 9397 (SSN), as amended.”

Purpose(s):

Delete entry and replace with “Serves as a repository of criminal and specified other non-criminal incidents used to satisfy statutory and regulatory reporting requirements, specifically crime statistics required by the Department of Justice (DoJ) under the Uniform Federal Crime Reporting Act; provides personal information required by the DoJ under the Brady Handgun Violence Prevention Act; and statistical information required by DoD under the Victim's Rights and Restitution Act.

The system is the primary host of all United States Air Force (USAF) vehicle and private weapon registration, visitor pass and restricted area authorization tracking. Other operations include capabilities to track combat arms training and qualifications, that include the last qualified date, score, and next due date by individual weapon and course of fire. Weapon maintenance, inventory control and tracking, modification, inspection, and weapon firing are recorded in the combat arms function, and munitions expenditure.

Tracks the scheduling of range and equipment usage, inspection and maintenance. Certification records for other agencies that utilize the range are maintained in this system. Most recently, it provides a direct interface with the National Crime Information Center (NCIC) and Integrated Automated Fingerprint Identification System (IAFIS) as hosted by the Federal Bureau of Investigations (FBI) via the Criminal Justice Information System (CJIS).

The system hosts Federal Application User Fee (FAUF) transactions for civilians applying for federal employment. FAUF is a format required for any branches of the U.S. military in connection with individual's enlisting, Officer Candidate School, federal agencies in connection with employment, security updates, or contract personnel. This module includes an Office of Personnel Management (OPM) FAUF transaction used to transmit FAUF transactions to the Air Force Office of Personnel & Management. Additionally, the system tracks accident reporting, providing user input and tracking for traffic accidents.”

* * * * *

Safeguards:

Delete entry and replace with “Records are accessed by individuals responsible for servicing the record system in performance of their official duties, and by authorized personnel who are properly screened and cleared for need-to-know. Administrators ensure members requiring access sign and acknowledge systems rules of behavior document that outlines security responsibilities before access is granted.”

Retention and disposal:

Delete entry and replace with “Records relating to Criminal Class A and military offense records of more than 1 year or death are destroyed 5 years from entry into database or term of confinement whichever is later. Criminal Class B and military offense records are destroyed 3 years after entry into database or term of confinement, whichever is later. Refer to State Criminal Code for definition of Class A and Class B offenses.

Military offense records, other than Article 15, Non-Judicial Punishment, are destroyed 3 years after entry into database. Article 15 records are destroyed 6 months after entry into database; and records on acquittals, set aside actions and unfounded allegations are immediately destroyed after action is completed.

Private vehicle registrations, financial responsibility and ownership records are destroyed after departure of registrant on Permanent Change of Station (PCS), termination of individual vehicle registration, or re-registration of vehicles. Military registration and certificate of title of motor vehicle records are destroyed 1 year after termination of registration, sale, transfer of ownership, shipment of vehicle to the United States or other country, unless retention is required by joint service and/or host country agreement or arrangement.

Identification credentials, records for identifying personnel permitted to enter Air Force Installations, and restricted area badges are destroyed immediately if not to be reissued. Loss, theft or destruction of identification credentials/passes are destroyed after 1 year. Records pertaining to barred personnel are destroyed 3 years after removal from the barred list. Security police activities reports, traffic reports, tickets or violation notices at Head Quarters Air Force Security Forces Center (HQ AFSFC) are destroyed after 2 years.

Records pertaining to complaints, incident investigation, and pick up/restriction orders are destroyed after 3 years. Entry control files are destroyed 2 years after final entry or after date of document, as appropriate. Physical security check records, security container check record, firearm/ammunition inventory records, field interviews are destroyed after 3 months. USAF employee firearm authorization and related records are destroyed 2 years after expiration or revocation. Criminal Justice Computer Terminal System (CJCTS) records at Security Forces are destroyed after 3 years, or when all entries on the form are deleted from the National Crime Information Center (NCIC) computer, whichever is later.

Audit trails are archived weekly and retained in a production storage area and are destroyed after 1 year. All records are destroyed automatically by being deleted from the system after the destruction date.”

* * * * *

Record source categories:

Delete entry and replace with “Information obtained from individuals; Department of Defense (DoD) and civilian law enforcement authorities, Air Force security personnel, court-martials, correctional institutions and facilities personnel, and Air Force Office of Personnel & Management.”

* * * * *

F031 AF SF B

System name:

Security Forces Management Information System (SFMIS).

System location:

Defense Information Systems Agency (DISA) Mega Center, Building 857, 401 E. Drive, Maxwell Air Force Base-Gunter Annex, AL 36114-3001; security forces units at all levels can access the system.

Categories of individuals covered by the system:

Individuals involved in incidents and accidents occurring on Air Force (AF) installations, or reportable incidents occurring off base. Including all Active Duty Military personnel, Reserve and Guard; Department of Defense (DoD) civilians and contractors. Retirees, who may be victims, witnesses, complainants, offenders, suspects, drivers; individuals who have had tickets issued on base, or had their license suspended or revoked; individuals barred from the installation; and persons possessing a licensed firearm are part of the system.

Additionally, the system includes visitors to the installation, individuals requiring access to controlled and/or restricted areas, civilians applying for Federal employment, and individuals who have weapons training and qualifications, or store firearms in an approved government facility.

Categories of records in the system:

Name; Social Security Number (SSN); date of birth; place of birth; home address and phone number; alias; race; ethnicity; sex; marital status; identifying marks, such as tattoos and scars; height, weight, eye, and hair color.

The date, location, nature and details of the incident or offense that include if alcohol, drugs and/or weapons were involved; driver's license information; tickets issued; vehicle information; suspension, revocation or debarment records. Information in the system includes if there is a bias against any particular group involved; if offense involved sexual harassment; actions taken by military commanders that include administrative and/or non-judicial measures, including sanctions imposed. Referral actions, court-martial results and punishments imposed. Confinement information, that consists of location of correctional facility, gang/cult affiliation if applicable; and release, parole, clemency eligibility dates.

Additionally, this system includes information on individuals Permanent Change of Station (PCS), rank, duty status and date, assignment state and country, base, current unit of assignment, office symbol and duty phone. Information is also collected on the Primary Air Force Specialty Code (PAFSC), Duty Air Force Specialty Code (DAFSC), Control Air Force Specialty Code (CAFSC), Army Post Office (APO) Address, date eligible to return from overseas (DEROS) data, gaining base and organization, date entered country, history, personally owned weapons, the individual's weapons training status and information, fingerprint images and demographic data, and accident reporting.

Authority for maintenance of the system:

10 U.S.C. 8013, Secretary of the Air Force; 18 U.S.C. 922 note, Unlawful Acts note referring to the Brady Handgun Violence Prevention Act; 28 U.S.C. 534 note, Judiciary and Judicial Procedures, note referring to the Uniform Federal Crime Reporting Act; 42 U.S.C. 10601 et seq., Crime Victims Fund; and Amendment to Lautenberg, 18 U.S.C. 922(d)(9) Unlawful Acts; DoD Directive 7730.47, Defense Incident-Based Reporting System (DIBRS); Air Force Instruction 31-203, Security Forces Management Information System; and E.O. 9397 (SSN), as amended.

Purpose(s):

Serves as a repository of criminal and specified other non-criminal incidents used to satisfy statutory and regulatory reporting requirements, specifically crime statistics required by the Department of Justice (DoJ) under the Uniform Federal Crime Reporting Act; provides personal information required by the DoJ under the Brady Handgun Violence Prevention Act; and statistical information required by DoD under the Victim's Rights and Restitution Act.

The system is the primary host of all United States Air Force (USAF) vehicle and private weapon registration, visitor pass and restricted area authorization tracking. Other operations include capabilities to track combat arms training and qualifications, that include the last qualified date, score, and next due date by individual weapon and course of fire. Weapon maintenance, inventory control and tracking, modification, inspection, and weapon firing are recorded in the combat arms function, and munitions expenditure.

Tracks the scheduling of range and equipment usage, inspection and maintenance. Certification records for other agencies that utilize the range are maintained in this system. Most recently, it provides a direct interface with the National Crime Information Center (NCIC) and Integrated Automated Fingerprint Identification System (IAFIS) as hosted by the Federal Bureau of Investigations (FBI) via the Criminal Justice Information System (CJIS).

The system hosts Federal Application User Fee (FAUF) transactions for civilians applying for federal employment. FAUF is a format required for any branches of the U.S. military in connection with individual's enlisting, Officer Candidate School, federal agencies in connection with employment, security updates, or contract personnel. This module includes an Office of Personnel Management (OPM) FAUF transaction used to transmit FAUF transactions to the Air Force Office of Personnel & Management. Additionally, the system tracks accident reporting, providing user input and tracking for traffic accidents.

Routine uses of records maintained in the system, including categories of users and the purposes of such uses:

In addition to those disclosures generally permitted under 5 U.S.C. 552a(b) of the Privacy Act of 1974, these records contained therein may specifically be disclosed outside the Department of Defense (DoD) as a routine use pursuant to 5 U.S.C. 552a(b)(3) as follows:

To the Department of Justice for criminal reporting purposes and as required by the Brady Handgun Violence Prevention Act.

To courts and State, local, and foreign law enforcement agencies for valid judicial proceedings.

To victims and witnesses to comply with the Victim and Witness Assistance Program, the Sexual Assault Prevention and Response Program, and the Victims Rights and Restitution Act of 1990.

The `Blanket Routine Uses' published at the beginning of the Air Force's compilation of systems of records notices apply to this system.

Policies and practices for storing, retrieving, accessing, retaining, and disposing of records in the system: Storage:

Records may be stored on paper and/or electronic storage media.

Retrievability:

Records are retrieved by name or Social Security Number (SSN).

Safeguards:

Records are accessed by individuals responsible for servicing the record system in performance of their official duties, and by authorized personnel who are properly screened and cleared for need-to-know. Administrators ensure members requiring access sign and acknowledge systems rules of behavior document that outlines security responsibilities before access is granted.

Retention and disposal:

Records relating to Criminal Class A and military offense records of more than 1 year or death are destroyed 5 years from entry into database or term of confinement whichever is later. Criminal Class B and military offense records are destroyed 3 years after entry into database or term of confinement, whichever is later. Refer to State Criminal Code for definition of Class A and Class B offenses.

Military offense records, other than Article 15, Non-Judicial Punishment, are destroyed 3 years after entry into database. Article 15 records are destroyed 6 months after entry into database; and records on acquittals, set aside actions and unfounded allegations are immediately destroyed after action is completed.

Private vehicle registrations, financial responsibility and ownership records are destroyed after departure of registrant on Permanent Change of Station (PCS), termination of individual vehicle registration, or re-registration of vehicles. Military registration and certificate of title of motor vehicle records are destroyed 1 year after termination of registration, sale, transfer of ownership, shipment of vehicle to the United States or other country, unless retention is required by joint service and/or host country agreement or arrangement.

Identification credentials, records for identifying personnel permitted to enter Air Force Installations, and restricted area badges are destroyed immediately if not to be reissued. Loss, theft or destruction of identification credentials/passes are destroyed after 1 year. Records pertaining to barred personnel are destroyed 3 years after removal from the barred list. Security police activities reports, traffic reports, tickets or violation notices at Head Quarters Air Force Security Forces Center (HQ AFSFC) are destroyed after 2 years.

Records pertaining to complaints, incident investigation, and pick up/restriction orders are destroyed after 3 years. Entry control files are destroyed 2 years after final entry or after date of document, as appropriate. Physical security check records, security container check record, firearm/ammunition inventory records, field interviews are destroyed after 3 months. USAF employee firearm authorization and related records are destroyed 2 years after expiration or revocation. Criminal Justice Computer Terminal System (CJCTS) records at Security Forces are destroyed after 3 years, or when all entries on the form are deleted from the National Crime Information Center (NCIC) computer, whichever is later.

Audit trails are archived weekly and retained in a production storage area and are destroyed after 1 year. All records are destroyed automatically by being deleted from the system after the destruction date.

Notification procedure:

Individuals seeking to determine whether information about themselves is contained in the system should address written requests to their servicing Security Forces Administrative Reports Section (SFAR) or the system manager at Headquarters Air Force Security Forces Center, Police Services Branch (HQ AFSFC/SFOP), 1517 Billy Mitchell Boulevard, Lackland Air Force Base, TX 78236-0119.

Individuals requesting entry onto an installation must refer to local installation Base Entry Procedures for access to the installation. At a minimum, individuals must identify themselves by full name, rank, home address, Social Security Number (SSN) and present a military ID, valid driver's license, or some other form of identification, whether you are submitting the request in writing or appearing in person.

Record access procedures:

Individuals seeking access to information about themselves contained in this system should address written requests to their servicing Security Forces Administrative Reports Section (SFAR) or the system manager at Headquarters Air Force Security Forces Center, Police Services Branch (HQ AFSFC/SFOP), 1517 Billy Mitchell Boulevard, Lackland Air Force Base, TX 78236-0119.

Individuals requesting entry onto an installation must refer to local installation Base Entry Procedures for access to the installation. At a minimum, individuals must identify themselves by full name, rank, home address, Social Security Number (SSN) and present a military ID, valid driver's license, or some other form of identification, whether you are submitting the request in writing or appearing in person.

Contesting records procedures:

The Air Force rules for accessing records, for contesting contents and appealing initial agency determinations are published in Air Force Instruction 37-132; 32 CFR part 806b; or may be obtained from the system manager.

Record source categories:

Information obtained from individuals; Department of Defense (DoD) and civilian law enforcement authorities, Air Force security personnel, court-martials, correctional institutions and facilities personnel, and Air Force Office of Personnel & Management.

Exemptions claimed for the system:

Parts of this system may be exempt pursuant to 5 U.S.C. 552a(j)(2) if the information is compiled and maintained by a component of the agency, which performs as its principle function any activity pertaining to the enforcement of criminal laws.

An exemption rule for this exemption has been promulgated in accordance with requirements of 5 U.S.C. 553(b)(1), (2), and (3), (c) and (e) and published in 32 CFR part 806b. For additional information contact the system manager.

[FR Doc. 2010-5954 Filed 3-17-10; 8:45 am]

BILLING CODE 5001-06-P